DEPARTMENT OF LABOR

Employment Standards Administration

29 CFR Parts 403 and 408

RIN 1215-AB62

Labor Organization Annual Financial Reports

AGENCY: Office of Labor-Management Standards, Employment Standards Administration, Department of Labor.

ACTION: Notice of proposed extension of effective date; request for public comment on legal and policy questions relating to the final rule.

SUMMARY: Consistent with the memorandum of January 20, 2009, from the Assistant to the President and Chief of Staff, entitled “Regulatory Review” and the memorandum of January 21, 2009, from the Director of the Office of Management and Budget (OMB), entitled “Implementation of Memorandum Concerning Regulatory Review,” this document seeks public comment on a proposal to delay for 60 days the effective date of the final rule, Labor Organization Annual Financial Reports, published in the Federal Register on January 21, 2009. The rule revised Form LM-2 and established a procedure whereby the Department may revoke, when warranted, the authorization to file the simplified report Form LM-3. This document proposes to extend the effective date until April 21, 2009. The Department seeks comments on whether or not it should delay the effective date of the final rule in order to provide an opportunity for further review and consideration of the questions of law and policy raised by it. For that reason, the Department also seeks comments generally on the rule, including comments on the merits of rescinding or retaining the rule.

DATES: Labor Organization Annual Financial Reports, published in the Federal Register on January 21, 2009 (74 FR 3677), is to take effect on February 20, 2009. The comment period for the extension of the effective date of the final rule will close on February 13, 2009. The comment period for providing comment on legal and policy questions relating to the rule itself will close on March 5, 2009.

ADDRESSES: You may submit comments, identified by RIN 1215-AB62, only by the following methods:

Internet—Federal eRulemaking Portal. Electronic comments may be submitted through http://www.regulations.gov. To locate the proposed rule, use key words such as “Labor-Management Standards” or “Labor Organization Annual Financial Reports” to search documents accepting comments. Follow the instructions for submitting comments. Please be advised that comments received will be posted without change to http://www.regulations.gov, including any personal information provided.

Delivery: Comments should be sent to: Denise M. Boucher, Director of the Office of Policy, Reports and Disclosure, Office of Labor-Management Standards, U.S. Department of Labor, 200 Constitution Avenue, NW., Room N-5609, Washington, DC 20210. Because of security precautions the Department continues to experience delays in U.S. mail delivery. You should take this into consideration when preparing to meet the deadline for submitting comments.

The Office of Labor-Management Standards (OLMS) recommends that you confirm receipt of your delivered comments by contacting (202) 693-0123 (this is not a toll-free number). Individuals with hearing impairments may call (800) 877-8339 (TTY/TDD). Only those comments submitted through http://www.regulations.gov, hand-delivered, or mailed will be accepted. Comments will be available for public inspection at http://www.regulations.gov and during normal business hours at the above address.

FOR FURTHER INFORMATION CONTACT: Denise M. Boucher, Director, Office of Policy, Reports and Disclosure, Office of Labor-Management Standards, Employment Standards Administration, U.S. Department of Labor, 200 Constitution Avenue, NW., Room N-5609, Washington, DC 20210, (202) 693-0123 (this is not a toll-free number), (800) 877-8339 (TTY/TDD).

SUPPLEMENTARY INFORMATION: The Department has determined that the rule involves matters of law and policy that should be addressed by the new Administration before the rule takes effect and is first applied to labor organizations. The Department has chosen to seek public comments now, rather than permit the rule to go into effect, due to the front end burdens associated with the rule. Without this proposal to delay the effective date, affected labor organizations likely will undertake much effort and expense in changing their recordkeeping systems to meet the changes required by the rule. If a decision is made to propose changes and such changes are ultimately effectuated, these expenses will have been incurred unnecessarily. The tasks undertaken will have to be repeated, and costs duplicated, to comply with any further revisions to the rule. Additionally, the Department itself will incur significant start up costs in revising its electronic software to make the changes required by the rule; costs that will have to be duplicated if changes are later proposed and effectuated in a final rule. Furthermore, unless the Department now proposes to delay the effective date of the rule, the Department will have to begin answering questions and providing compliance assistance about how the final rule is to be implemented, guidance that will only confuse labor organizations if new guidance about a revised rule has to be provided in the near future. For the foregoing reasons, the Department has determined to propose delay of the effective date of the final rule and, by doing so, alert affected labor organizations that it may be advisable for them to delay preparations and financial commitments associated with the changes required by the final rule until a decision is made regarding the effective date of the final rule. The Department proposes the delay of the effective date to provide an opportunity for further review and consideration of the questions of law and policy raised by it. For that reason, the Department also seeks comments generally on the rule, including comments on the merits of rescinding or retaining the rule.

Dated: January 29, 2009.
Andrew D. Auerbach,
Deputy Director, Office of Labor-Management Standards.

[FR Doc. E9-2223 Filed 1-29-09; 4:15 pm]

BILLING CODE 4510-CP-P